DEPARTMENT OF TRANSPORTATION

National Highway Traffic Safety Administration

[Docket No. NHTSA-2018-0109 and NHTSA-2018-0074; Notice 1]

Consolidated Glass & Mirror, LLC, Receipt of Petitions for Decision of Inconsequential Noncompliance

AGENCY: National Highway Traffic Safety Administration (NHTSA), Department of Transportation (DOT).

ACTION: Receipt of petitions.

SUMMARY: Consolidated Glass & Mirror, LLC (CGM), a subsidiary of Guardian Industries Corporation (Guardian), has determined that certain laminated glass parts do not fully comply with Federal motor vehicle safety standard (FMVSS) No. 205, Glazing Materials. Guardian filed two noncompliance reports dated April 15, 2020 and December 14, 2018 CGM petitioned NHTSA on May 23, 2018, and December 20, 2018, for a decision that the subject noncompliances are inconsequential as they relate to motor vehicle safety. This document announces receipt of CGM's petitions.

DATES: The closing date for comments on the petition is December 10, 2020.

ADDRESSES: Interested persons are invited to submit written data, views, and arguments on this petition. Comments must refer to the docket number(s) and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID numbers for these petitions are shown in the heading of this notice.

DOT's complete Privacy Act Statement is available for review in a Federal Register notice published on April 11, 2000 (65 FR 19477-78).

SUPPLEMENTARY INFORMATION:

I. Overview

CGM has determined that certain laminated glass parts do not fully comply with paragraph S6 of FMVSS No. 205, Glazing Materials (49 CFR 571.205). On May 23, 2018, Guardian petitioned NHTSA for an inconsequential safety decision (49 U.S.C. 30118(d) and 30120(h) and 49 CFR part 556, Exemption for Inconsequential Defect or Noncompliance) without initially filing a noncompliance report (49 CFR part 573, Defect and Noncompliance Responsibility and Reports). Although NHTSA could have properly rejected this petition, it did not and prompted Guardian to file the required noncompliance report. Guardian finally did so on April 15, 2020. Guardian filed another noncompliance report dated December 14, 2018 and subsequently filed a second petition on December 20, 2018, for a decision that this second noncompliance is inconsequential as they relate to motor vehicle safety. Because the two petitions address similar issues, this document announces the receipt of the two CGM's petitions.

This notice of receipt of CGM's petitions is published under 49 U.S.C. 30118 and 30120 and does not represent any Agency decision or other exercises of judgment concerning the merits of the petition.

II. Equipment Involved

Approximately 223 laminated windshields manufactured on March 8, 2018, and shipped to IC Corp Tulsa Bus Plant for installation into Navistar buses are potentially involved.

Approximately 1,390 bus door window panes, manufactured between November 1, 2017 and March 29, 2018 are potentially involved. The window panes were sold to Vapor Bus for use in the fabrication of bus doors. Vapor Bus subsequently shipped the bus doors to Nova Bus for installation in their buses.

III. Noncompliance

CGM explained that the noncompliance is that the markings on the subject laminated glass panes do not fully meet the requirements specified in paragraph S6 of FMVSS No. 205. Specifically, the laminated glass panes shipped to IC Corp Tulsa Bus Plant were marked AS-2, when they should have been marked AS-1 and the bus window panes sold to Nova Bus were marked AS-S, when they should have been marked AS-2.

IV. Rule Requirements

Paragraph S6 of FMVSS No. 205 includes the requirements relevant to this petition. A manufacturer or distributor who cuts a section of glazing material, to which FMVSS No. 205 applies, for use in a motor vehicle or camper, must mark that material in accordance with section 7 of ANSI/SAE Z26.1-1996.

V. Summary of CGM's Petitions

The following views and arguments presented in this section, V. Summary of CGM's Petitions, are the views and arguments provided by CGM. They have not been evaluated by the Agency and do not reflect the views of the Agency. The petitioner described the subject noncompliances and stated their belief that the noncompliance is inconsequential as it relates to motor vehicle safety.

In support of their petitions, CGM submitted the following reasoning:

1. The laminated glass parts are affixed with the CGM trademark and the correct DOT number and M number.

2. Although the laminated glass parts are affixed with the misprinted AS number, the glass construction from which the laminated glass parts were fabricated is in full compliance with the technical requirements that 49 CFR 571.205 as it currently applies to laminated glass for use in a motor vehicle. In no way is the actual safety aspect of the laminated glass compromised by the misprinted AS number.

3. Despite the misprinted AS number being affixed to the laminated glass parts described herein, the correct parts were sold and shipped to Navistar and Nova Bus for use as windscreens and door windows.

4. CGM asserts that the noncompliance reported herein could not result in the wrong part being used in an OEM application, given that the part would be ordered by its unique part number and not the “M number” (which corresponds to the glass construction from which the part is fabricated). The parts are also easily traceable back to CGM via their unique DOT number.

CGM concluded by expressing the belief that the subject noncompliances are inconsequential as they relate to motor vehicle safety, and that their petitions to be exempted from providing notification of the noncompliance, as required by 49 U.S.C. 30118, and a remedy for the noncompliance, as required by 49 U.S.C. 30120, should be granted.

CGM's complete petitions and all supporting documents are available by logging onto the Federal Docket Management System (FDMS) website at: https://www.regulations.gov and following the online search instructions to locate the docket numbers listed in the title of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on these petitions only applies to the subject equipment that CGM no longer controlled at the time it determined that the noncompliances existed. However, any decision on these petitions does not relieve equipment distributors and dealers of the prohibitions on the sale, offer for sale, or introduction or delivery for introduction into interstate commerce of the noncompliant equipment under their control after CGM notified them that the subject noncompliance existed.

Authority: 49 U.S.C. 30118, 30120: delegations of authority at 49 CFR 1.95 and 501.8.

Otto G. Matheke III,
Director, Office of Vehicle Safety Compliance.

[FR Doc. 2020-24825 Filed 11-9-20; 8:45 am]

BILLING CODE 4910-59-P